FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (www.fmc.gov) or contacting the Office of Agreements at (202) 523-5793 or tradeanalysis@fmc.gov.

Agreement No.: 011733-026.

Title: Common Ocean Carrier Platform Agreement.

Parties: A.P. Moller-Maersk A/S; CMA CGM; Hamburg-Süd; Hapag-Lloyd AG; Mediterranean Shipping Company S.A.; and United Arab Shipping Company (S.A.G.) as shareholder parties, and Alianca Navegacao e Logistica Ltda.; Compania Sud Americana de Vapores, S.A.; Companhia Libra de Navegacao; COSCO Container Lines Co., Ltd.; Emirates Shipping Lines; Gold Star Line, Ltd.; Hanjin Shipping Co., Ltd.; Hyundai Merchant Marine Co. Ltd; Kawasaki Kisen Kaisha, Ltd.; MISC Berhad; Mitsui O.S.K. Lines Ltd.; Nippon Yusen Kaisha; Safmarine Container Lines N.V.; Senator Lines GmbH; Norasia Container Lines Limited; Tasman Orient Line C.V. and Zim Integrated Shipping as non-shareholder parties.

Filing Party: Wayne R. Rohde, Esq., Sher & Blackwell LLP, 1850 M Street, NW., Suite 900, Washington, DC 20036.

Synopsis: The amendment would add Evergreen Line Joint Service Agreement as a non-shareholder party to the agreement.

Agreement No.: 012048.

Title: The Container Trades Statistics Agreement.

Parties: A.P. Moeller-Maersk A/S; China Shipping Container Lines Co., Ltd.; COSCO Container Lines Company Ltd.; CMA CGM S.A.; Compania Sudamericana de Vapores S.A.; Evergreen Line Joint Service Agreement; Hamburg Sud KG; Hanjin Shipping Co., Ltd.; Hapag-Lloyd AG; Hyundai Merchant Marine Co., Ltd.; Independent Container Line Ltd.; Kawasaki Kisen Kaisha, Ltd.; Mediterranean Shipping Co. S.A.; Mitsui O.S.K. Lines, Ltd.; Nippon Yusen Kaisha; Orient Overseas Container Line Ltd.; Pacific International Lines (PTE) Ltd.; United Arab Shipping Co. (SAG); Yangming Marine Transport Corp.; and Zim Integrated Shipping Services, Ltd.

Filing Party: Wayne R. Rohde, Esq., Sher & Blackwell LLP, 1850 M Street, NW., Suite 900, Washington, DC 20036.

Synopsis: The agreement authorizes the parties to gather, compile, aggregate, exchange, and disseminate demand and supply forecasts, a volume database, and a price index relating to the trade between the United States and the European Union. It also authorizes the parties to meet and discuss such data.

By Order of the Federal Maritime Commission.
Dated: September 5, 2008.
Karen V. Gregory,
Assistant Secretary.

[FR Doc. E8-21034 Filed 9-9-08; 8:45 am]

BILLING CODE 6730-01-P